DEPARTMENT OF HEALTH AND HUMAN SERVICES

Administration for Children and Families

[Program Announcement No. ACF/ACYF/HS-2002-02]

Fiscal Year 2002 Discretionary Announcement for Child Development Associate (CDA) Credentialing Program; Availability of Funds and Request for Applications

AGENCY: Administration on Children, Youth and Families (ACYF), Administration for Children and Families (ACF), Department of Health and Human Services (DHHS).

ACTION: Announcement of the availability of funds and request for applications to administer the Child Development Associate (CDA) Credentialing Program.

SUMMARY: The Administration for Children and Families (ACF), Administration on Children, Youth and Families (ACYF) announces the availability of $1,000,000 annually for each of five years to support the Child Development Associate (CDA) Credentialing Program through a Cooperative Agreement. A Cooperative Agreement is a form of Federal financial assistance that allows substantial Federal involvement in the activities for which funds are awarded. A detailed description of the Federal involvement is described in the full version of this announcement.

The CDA Program is a national project to credential qualified caregivers who work with children birth to age five in a variety of public and private agency settings, and in a variety of roles, including as center-based caregivers of infants and toddlers or preschool age children, as home visitors, or as family child care providers.

DATES: The closing date and time for receipt of application is 5 p.m. EDT on January 28, 2002.

Note: Applications should be submitted to the ACYF Operations Center at: 1815 N. Fort Myer Drive, Suite 300, Arlington, Virginia 22209. However, prior to preparing and submitting an application, in order to satisfactorily compete under this announcement it will be necessary for potential applicants to read the full announcement which is available through the address listed below.

ADDRESSES: The full announcement and applications, including all necessary forms can be downloaded from the Head Start web site at www.acf.dhhs.gov/programs/hsb. Hard copies of the application may be obtaining by writing or calling the ACYF Operations Center (address listed below) or sending an e-mail to CDA@lcgnet.com

FOR FURTHER INFORMATION CONTACT: ACYF Operations Center, 1815 North Fort Myer Drive, Suite 300, Arlington, Virginia 22209, telephone 1-800-351-2293 or e-mail to CDA@lcgnet.com

SUPPLEMENTARY INFORMATION: Eligible Applicants: An applicant must be a private or public non-profit or for-profit organization. Eligible applicants include colleges and universities, and private or public non-profit or for-profit organizations or associations in the field of early childhood education or the related fields of child development, child care, and family studies. Faith-based organizations are eligible to apply for these funds. Note: For-profit organizations must agree to waive their fee under this program.

Only incorporated agencies and organizations, not individuals, are eligible to apply. On all applications developed jointly by more than one agency or organization, the application must identify only one organization as the lead organization and the official applicant. The other organizations(s) may be included as partners, participants, subgrantees or subcontractors. Before applications are reviewed, each application will be screened to determine that the organization is an eligible applicant as specified. Ineligible applicants will be notified.

Project Duration: The announcement for the Child Development Associate (CDA) Credentialing Program is soliciting applications for a project period of five years. An award will be made on a competitive basis for the first one-year budget period. An application for the continuation grant funded for this award beyond the one-year period, but within the established project period, will be entertained in subsequent years on a non-competitive basis, subject to availability of funds, satisfactory progress of the grantee, and a determination that continued funding would be in the best interest of the Government.

Federal Share of Project Costs: A total of approximately $1,000,000 in ACF funds will be available annually for this project. The Federal share is inclusive of indirect costs.

Matching Requirements: There are not matching requirements.

Anticipated Number of Projects to be Funded: It is anticipated that one project will be funded.

Statutory Authority: Section 648(e) of the Head Start Act (42 U.S.C. 9843).

Evaluation Criteria

Reviewers will consider the following criteria when evaluating applicants. The maximum numbers of points available are indicated in parenthesis.

Criterion 1. Objectives and Need For Assistance (20 points)

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Criterion 2. Results and Benefits Expected (15 points)

Identify the results and benefits to be derived. For example describe the extent to which the applicant's recommendations and possible strategies for enhancing the current CDA National Credentialing Program systems and approaches to support Head Start staff qualification requirements as mandated by Section 648A of the Head Start Act and the revised Head Start Performance Standards. Clearly state the results and benefits of CDAs to be credentialed annually, and the extent to which the assessment and credentialing fee is affordable to potential candidates.

Criterion 3. Approach (50 points)

Outline a plan of action, which describes the scope, and detail of how the proposed work will be accomplished. Account for all functions or activities identified in the application. Cite factors, which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Criterion 4. Budget and Budget Justification (15 points)

Provide line item detail and detailed calculations for each budget object class identified on the Budget Information form. Detailed calculations must include estimated methods, quantities, unit costs, and other similar quantitative detail sufficient for the calculation to be duplicated. The detailed budget must also include by the funding sources identified in Block 15 of the SF-424.

Provide a narrative budget justification that describes how the categorical costs are derived. Discuss the necessity, reasonableness, and allocability of the proposed costs.

Required Notification of the State Single Point of Contact

This program is covered under Executive Order 12372, Intergovernmental Review of Federal Programs and 45 CFR part 100, Intergovernmental Review of Department of Health and Human Services Program and Activities. Under the Order, States may design their own processes for reviewing and commenting on proposed Federal assistance under covered programs.

All States and Territories except Alabama, Alaska, Colorado, Connecticut, Hawaii, Idaho, Kansas, Louisiana, Massachusetts, Minnesota, Montana, Nebraska, New Jersey, New York, Ohio, Oklahoma, Oregon, Pennsylvania, South Dakota, Tennessee, Vermont, Virginia, Washington, American Samoa, and Palau have elected to participate in the Executive Order process and have established Single Points of Contact (SPOCs). Applicants from these twenty-five jurisdictions need take no action regarding E.O. 12372. Applicants for projects to be administered by Federally-recognized Indian Tribes are also exempt from the requirements of E.O. 12372. Otherwise, applicants should contact their SPOCs as soon as possible to alert them of the prospective applicants and receive any necessary instructions. Applicants must submit any required material to the SPOCs as soon as possible so that the program office can obtain and review SPOC comments as part of the award process. It is imperative that the applicant submit all required materials, if any, to the SPOC and indicate the date of this submittal (or the date or contact if no submittal is required) on the Standard Form 424, Item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State recommendations which may trigger the “accommodate or explain” rule.

When comments are submitted directly to ACF, they should be addressed to: William Wilson, Head Start Bureau, 330 C Street, SW., Washington, DC 20447, Attn: Head Start—Child Development Associate Credentialing Program.

A list of Single Points of Contact for each State and Territory can be found on the web site. http://www.whitehouse.gov/omb/grants/spoc.html.

Dated: December 18, 2001.
James A. Harrell,
Acting Commissioner, Administration on Children, Youth and Families.

[FR Doc. 01-31500 Filed 12-20-01; 8:45 am]

BILLING CODE 4184-01-M